ENVIRONMENTAL PROTECTION AGENCY

[FRL-8227-8]

Gulf of Mexico Program Citizens Advisory Committee Meeting

AGENCY: Environmental Protection Agency ( EPA).

ACTION: Notice of meeting.

SUMMARY: Under the Federal Advisory Committee Act (Pub. L. 92-463), EPA gives notice of a meeting of the Gulf of Mexico Program (GMP) Citizens Advisory Committee (CAC).

For information on access or services for individuals with disabilities, please contact Gloria Car, U.S. EPA, at (228) 688-2421 or car.gloria@epa.gov. To request accommodation of a disability, please contact Gloria Car, preferably at least 10 days prior to the meeting, to give EPA as much time as possible to process your request.

DATES: The meeting will be held on Tuesday, October 31, 2006, from 8:30 a.m. to 5 p.m. and Wednesday, November 1, 2006, from 8:30 a.m. to 2 p.m.

ADDRESSES: The meeting will be held at the Texas Farm Bureau Headquarters, 7420 Fish Pond Road, Waco, Texas 76710.

FOR FURTHER INFORMATION CONTACT: Gloria D. Car, Designated Federal Officer, Gulf of Mexico Program Office, Mail Code EPA/GMPO, Stennis Space Center, MS 39529-6000 at (228) 688-2421.

SUPPLEMENTARY INFORMATION: The proposed agenda includes the following topics: Field trips to Waco Wetland Project and Dairy Farm Operations; Gulf of Mexico Program Updates; Presentation on Liquified Natural Gas Facilities; Discussions of Citizens Advisory Committee Involvement in Gulf Alliance Activities; Gulf Guardian Process; Priority Interests of the Citizens Advisory Committee; Citizens Advisory Committee membership status.

The meeting is open to the public.

Dated: September 27, 2006.
Gloria D. Car,
Designated Federal Officer.

[FR Doc. E6-16519 Filed 10-4-06; 8:45 am]

BILLING CODE 6560-50-P